DEPARTMENT OF THE INTERIOR

Bureau of Land Management

[ID 100 1220MA 241A: DBG081007]

Notice of Public Meeting: Joint Recreation Resource Advisory Council Subcommittee to the Boise and Twin Falls Districts, Bureau of Land Management, U.S. Department of the Interior.

AGENCY: Bureau of Land Management, U.S. Department of the Interior.

ACTION: Notice of Public Meeting.

SUMMARY: In accordance with the Federal Land Policy and Management Act (FLPMA) and the Federal Advisory Committee Act of 1972 (FACA), the U.S. Department of the Interior, Bureau of Land Management (BLM) Boise and Twin Falls District Recreation Resource Advisory Council (Rec-RAC) Subcommittee, will hold a meeting as indicated below.

DATES: The meeting will be held on April 10, 2008, beginning at 9:30 a.m. and adjourning at p.m. The meeting location is the U.S. Department of Labor building, 450 Falls Avenue, Twin Falls, Idaho. Public comment periods will be held before the conclusion of the meeting.

FOR FURTHER INFORMATION CONTACT: MJ Byrne, Public Affairs Officer and RAC Coordinator, BLM Boise District, 3948 Development Ave., Boise, ID 83705, Telephone (208) 384-3393, or Heather Tiel-Nelson, Public Affairs Officer, Twin Falls District, 2536 Kimberly Rd., Twin Falls, ID 83301, (208) 735-2063.

SUPPLEMENTARY INFORMATION: In accordance with section 4 of the Federal Lands Recreation Enhancement Act of 2005, a Subcommittee has been established to provide advice to the Secretary of the Interior, through the BLM, in the form of recommendations that relate to public concerns regarding the implementation, elimination or expansion of an amenity recreation fee; or recreation fee program on public lands under the jurisdiction of the U.S. Forest Service and/or the BLM in both the Boise and Twin Falls Districts located in southern Idaho. Items on the agenda include review and discussion of information mailed by representatives of the Boise and Sawtooth National Forests to the Subcommittee Members about proposed implementation, elimination or expansion of identified amenity recreation fees, or fee programs, and; formulation of recommendations for approval or rejection of the fee changes that will be brought before the two full RAC's meeting jointly on May 8, 2008, at the same location in Twin Falls, Idaho. Agenda items and location may change due to changing circumstances. All meetings are open to the public. The public may present written comments to the Subcommittee. Each formal subcommittee meeting will also have time allocated for hearing public comments. Depending on the number of persons wishing to comment and time available, the time for individual oral comments may be limited. Individuals who plan to attend and need special assistance, such as sign language interpretation, tour transportation or other reasonable accommodations, should contact the BLM Coordinators as provided above. Expedited publication is requested to give the public adequate notice.

Dated: March 3, 2008.
David Wolf,
Associate District Manager.

[FR Doc. E8-4490 Filed 3-6-08; 8:45 am]

BILLING CODE 4310-GG-P